DEPARTMENT OF THE INTERIOR

Fish and Wildlife Service

[FWS-HQ-LE-2018-N023; FF09L00200-FX-LE18110900000; OMB Control Number 1018-0092]

Agency Information Collection Activities; Federal Fish and Wildlife Permit Applications and Reports—Law Enforcement

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before July 1, 2019.

ADDRESSES: Send your comments on the information collection request (ICR) by mail to the Service Information Collection Clearance Officer, U.S. Fish and Wildlife Service, MS: BPHC, 5275 Leesburg Pike, Falls Church, VA 22041-3803 (mail); or by email to Info_Coll@fws.gov. Please reference OMB Control Number 1018-0092 in the subject line of your comments.

FOR FURTHER INFORMATION CONTACT: Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Endangered Species Act (16 U.S.C. 1531 et seq., ESA) makes it unlawful to import or export wildlife or wildlife products for commercial purposes without first obtaining an import/export license (see 16 U.S.C. 1538(d)). The ESA also requires that fish or wildlife be imported into or exported from the United States only at a designated port or at a nondesignated port under certain limited circumstances (see 16 U.S.C. 1538(f)). This information collection includes the following permit/license application forms:

FWS Form 3-200-2, “Designated Port Exception Permit”

Under 50 CFR 14.11, it is unlawful to import or export wildlife or wildlife products at ports other than those designated in 50 CFR 14.12 unless you qualify for an exception. The following exceptions allow qualified individuals, businesses, or scientific organizations to import or export wildlife or wildlife products at a nondesignated port:

(a) To export the wildlife or wildlife products for scientific purposes;

(b) To minimize deterioration or loss; or

(c) To relieve economic hardship.

To request authorization to import or export of wildlife or wildlife products at nondesignated ports, applicants must complete FWS Form 3-200-2. Designated port exception permits can be valid for up to 2 years. We may require a permittee to file a report on activities conducted under authority of the permit.

FWS Form 3-200-3a, “Federal Fish and Wildlife Permit Application Form: Import/Export License—U.S. Entities” and 3-200-3b, “Federal Fish and Wildlife Permit Application Form: Import/Export License—Foreign Entities”

It is unlawful to import or export wildlife or wildlife products for commercial purposes without first obtaining an import/export license (50 CFR 14.91). Applicants located in the United States must complete FWS Form 3-200-3a to request this license. Foreign applicants that reside or are located outside the United States must complete FWS Form 3-200-3b to request this license.

We use the information collected on FWS Forms 3-200-3a/3b as an enforcement tool and management aid to (a) monitor the international wildlife market and (b) detect trends and changes in the commercial trade of wildlife and wildlife products. Import/export licenses are valid for up to 1 year. We may require a licensee to file a report on activities conducted under authority of the import/export license.

Recordkeeping Requirements

Permittees and licensees must maintain records that accurately describe each importation or exportation of wildlife or wildlife products made under the license, and any additional sale or transfer of the wildlife or wildlife products. In addition, licensees must make these records and the corresponding inventory of wildlife or wildlife products available for our inspection at reasonable times, subject to applicable limitations of law. We believe the burden associated with these recordkeeping requirements is minimal because the records already exist. Importers and exporters must complete FWS Form 3-177 (Declaration for Importation or Exportation of Fish or Wildlife) for all imports or exports of wildlife or wildlife products. This form provides an accurate description of the imports and exports. OMB has approved the information collection for FWS Form 3-177 and assigned OMB Control Number 1018-0012. Normal business practices should produce records (e.g., invoices or bills of sale) needed to document subsequent sales or transfers of the wildlife or wildlife products.

Proposed Revision

With this submission, we will be proposing a revision to the previously approved collection of information to incorporate the below-listed forms currently approved under OMB Control No. 1018-0093, “Federal Fish and Wildlife Permit Applications and Reports—Management Authority; 50 CFR 12, 13, 14, 15, 16, 17, 18, 21, 23”:

• FWS Form 3-200-44, “Permit Application Form: Registration of an Agent/Tannery under the Marine Mammal Protection Act (MMPA),” and

• FWS Form 3-200-44a, “Registered Agent/Tannery Bi-Annual Inventory Report.”

We use the information collected on FWS Form 3-200-44 for only the registration of qualified agents and tanneries for polar bear (Ursus maritimus), walrus (Odobenus rosmarus) and Alaskan sea otter (Enhydra lutris kenyoni) under the Marine Mammals Protection Act. This registration facilitates the transfer of marine mammal specimens taken by Alaskan Natives for the purposes of subsistence or creation of authentic Native handicraft articles and clothing.

Biannually (twice a year) on or before the 10th day of January and July, we require that the permittee submit to the Service FWS Form 3-200-44a containing detailed activities of each registered agent or registered tannery for each transaction related to Polar bear, Walrus, and Alaskan sea otter. If no transactions occurred, the permittee must submit a negative report.

The associated estimated annual burden of Forms 3-200-44/44A is 11 responses, 10 burden hours, and $400.00 nonhour cost burden. If OMB approves this revision request, we will revise OMB Control No. 1018-0093 to remove those two forms to avoid duplication of burden.

Title of Collection: Federal Fish and Wildlife Applications and Reports—Law Enforcement; 50 CFR 13 and 14.

OMB Control Number: 1018-0092.

Form Number: FWS Forms 3-200-2, 3-200-3, 3-200-3a, 3-200-44, and 3-200-44a.

Type of Review: Revision of a currently approved collection.

Respondents/Affected Public: Individuals, private sector, and State/local/Tribal entities.

Respondent's Obligation: Required to obtain or retain a benefit.

Frequency of Collection: One time for applications, an average of once every 9 days per respondent for fulfillment reports, and biannually (January and July) for agents/tanneries.

Total Estimated Annual Nonhour Burden Cost: $1,075,300 (1,398 Forms 3-200-2 × $100 permit fee application = $139,800; Forms 3-200-3a × $100 permit fee application = $922,500; Forms 3-200-3b × $100 permit fee application = $12,600; and Forms 3-200-44 × $100 permit fee application = $400.00).

Activity/requirement | Estimated number of annual respondents | Estimated number of annual responses | Completion time per response (hours) | Estimated total annual burden hours *
FWS Form 3-200-2, “Designated Port Exception Permit” (50 CFR 13 and 14):
Individuals | 629 | 629 | 1.25 | 786
Private Sector | 755 | 755 | 1.25 | 944
Government | 14 | 14 | 1.25 | 18
Designated Port Exception Permit Report/Recordkeeping (50 CFR 13 and 14):
Private Sector | 5 | 5 | 1 | 5
Import/Export License Report/Recordkeeping (50 CFR 13 and 14):
Private Sector | 10 | 10 | 1 | 10
FWS Form 3-200-3a, “Federal Fish and Wildlife Permit Application Form: Import/Export License—U.S. Entities” (50 CFR 13 and 14):
Private Sector | 9,225 | 9,225 | 1.25 | 11,531
FWS Form 3-200-3b, “Federal Fish and Wildlife Permit Application Form: Import/Export License—Foreign Entities” (50 CFR 13 and 14):
Private Sector | 126 | 126 | 1.25 | 158
FWS Forms 3-200-44, “Permit Application Form: Registration of an Agent/Tannery under the Marine Mammal Protection Act (MMPA)”:
Private Sector | 4 | 4 | .3 | 1
FWS Form 3-200-44a, “Registered Agent/Tannery Bi-Annual Inventory Report.”:
Private Sector | 9 | 9 | 1 | 9
Total | 10,777 | 10,777 |  | 13,462
* Rounded

An agency may not conduct or sponsor and a person is not required to respond to a collection of information unless it displays a currently valid OMB control number.

The authority for this action is the Paperwork Reduction Act of 1995 (44 U.S.C. 3501 et seq.).

Dated: April 24, 2019.
Madonna Baucum,
Information Collection Clearance Officer, U.S. Fish and Wildlife Service.

[FR Doc. 2019-08672 Filed 4-29-19; 8:45 am]

BILLING CODE 4333-15-P